DEPARTMENT OF VETERANS AFFAIRS

Creating Options for Veterans Expedited Recovery (COVER) Commission; Notice of Meeting

In accordance with the Federal Advisory Committee Act, the Creating Options for Veterans Expedited Recover (COVER) Commission gives notice that a meeting will be held:

1. October 16, 2018 Palo Alto Heath Care System (PAHCS), Main Campus

2. October 17, 2018 PAHCS, Menlo Park Facility.

3. November 5 and 6, 2018, from 1-4 p.m. or completion of out-briefs whatever comes first, VANTS Call.

The October 16, 2018 meeting will convene at the Palo Alto Medical Facility and will be open to the public from 9:00 a.m. to 11:30 a.m.; location for opens sessions is the Auditorium at the Palo Alto Division Campus (Building 101, Room C1-100). On October 17, 2018 the meeting will be held at the Menlo Park Facility and open to the public from 8:30 a.m. to 10:00 a.m.; location for open sessions at Menlo Park Facility is the Welcome Center Community Room (Building 400, Room 107. All other sessions will be closed as the Commissioners will split into several interview/data collection teams to accomplish research, discuss relevance of the interviews and research and focus group information collected, and conduct sensitive interviews/focus groups with Veterans. The public is not invited to interviews in order protect privacy data and proprietary information under S.C. 552b(c) under (9)(B) “because it would reveal information the disclosure of which would, “in the case of an agency, be likely to significantly frustrate implementation of a proposed agency action.”

October 16, 2018 open meetings will consist of briefings on:

1. Mental Health and Suicide Prevention by the facility Chief

2. Complementary and Integrative Health

3. Whole Health

October 17, 2018, open meetings will consist of briefings on:

1. Office of Mental Health data (to include statistics on mental health providers

2. Presentation by Dr. Amit Etkin, Associate Professor of Psychiatry and Behavioral Sciences, Stanford University and Investigator for Sierra-Pacific Mental Illness Research Education and Clinical Center (MIRECC); topic:

Research related to Veterans with Mental Health Conditions

November 5 and 6, 2018 meetings are VANTS line by Commissioners and a listening line for the public to call in. These meetings are for commissioners to out brief and summarize the interview/data collection teams' findings from October 16 and 17 and to further discuss applicability to the charter and legislative requirements.

The line number for the public on October 16 and 17 for open sessions and November 5 and 6 for open calls is 800-767-1750; access code 48664#. The line number will be activated 10 minutes before each of the open or call in sessions.

The purpose of the COVER Commission is to examine the evidence-based therapy treatment model used by the Department of Veterans Affairs (VA) for treating mental health conditions of Veterans and the potential benefits of incorporating complementary and integrative health approaches as standard practice throughout the Department.

Members of the public are invited to open sessions. Videotaping or recording, tweeting commission or staff photos or comments are discouraged as they are disruptive to Commission members and staff and other audience members. Any member of the public seeking additional information should email COVER Commission@va.gov. The Designated Federal Officer for the Commission is Ms. Sheila B. Hickman. She and the staff will be monitoring and responding to questions or comments sent to this email box. The Committee will also accept written comments which may be sent to the same email box. In the public's communications with the Committee, the writers must identify themselves and state the organizations, associations, or persons they represent.

Dated: October 1, 2018.
LaTonya L. Small,
Federal Advisory Committee Management Officer.

[FR Doc. 2018-21626 Filed 10-3-18; 8:45 am]

BILLING CODE 8320-01-P